DEPARTMENT OF COMMERCE

National Oceanic and Atmospheric Administration

RIN 0648-XA307

Pacific Fishery Management Council; Public Meeting

AGENCY: National Marine Fisheries Service (NMFS), National Oceanic and Atmospheric Administration, Commerce.

ACTION: Notice of public meetings.

SUMMARY: The Pacific Council and its advisory entities will hold public meetings.

DATES: The Pacific Council and its advisory entities will meet April 8-13, 2011. The Pacific Council meeting will begin on Saturday, April 9, 2011 at 8 a.m., reconvening each day through Wednesday, April 13, 2011. All meetings are open to the public, except a closed session will be held from 8 a.m. until 9 a.m. on Saturday, April 9 to address litigation and personnel matters. The Pacific Council will meet as late as necessary each day to complete its scheduled business.

ADDRESSES: Meetings of the Pacific Council and its advisory entities will be held at the Marriott San Mateo, 1770 South Amphlett Boulevard, San Mateo, CA 94402; telephone: (650) 635-6000.

Council address: Pacific Fishery Management Council, 7700 NE. Ambassador Place, Suite 101, Portland, OR 97220.

FOR FURTHER INFORMATION CONTACT: Dr. Donald O. McIsaac, Executive Director; telephone: (503) 820-2280 or (866) 806-7204 toll free; or access the Pacific Council Web site, http://www.pcouncil.org for the current meeting location, proposed agenda, and meeting briefing materials.

SUPPLEMENTARY INFORMATION: The following items are on the Pacific Council agenda, but not necessarily in this order:

A. Call to Order

1. Opening Remarks

2. Roll Call

3. Executive Director's Report

4. Approve Agenda

B. Open Comment Period

Comments on Non-Agenda Items

C. Coastal Pelagic Species (CPS) Management

1. National Marine Fisheries Service Report

2. Exempted Fishing Permit for 2011 Aerial Survey

3. CPS Survey Methodology

D. Habitat

Current Habitat Issues

E. Administrative Matters

1. Marine Spatial Planning Update

2. Legislative Matters

3. Approve Council Meeting Minutes

4. Membership Appointments and Council Operating Procedures

5. Future Council Meeting Agenda and Workload Planning

F. Pacific Halibut Management

Incidental Catch Regulations for the 2011 Salmon Troll Fishery

G. Salmon Management

1. National Marine Fisheries Service Report

2. Tentative Adoption of 2011 Management Measures for Analysis

3. 2011 Methodology Review

4. Further Council Direction for 2011 Management Measures for Analysis

5. Essential Fish Habitat Review

6. Adoption of 2011 Management Measures

H. Highly Migratory Species Management

1. National Marine Fisheries Service Report

2. North Pacific Albacore Tuna Conservation and Management

I. Groundfish Management

1. National Marine Fisheries Service Report

2. 2013-14 Biennial Management Process and Schedule for Public Review

3. Periodic Essential Fish Habitat Review Process

4. Formation of Risk Pools under the Trawl Rationalization Program, Informational Briefing only

5. Consider Inseason Adjustments—Part I

6. Develop Trailing Management Actions under Trawl Rationalization

7. Council Input to the NMFS Program Improvements and Enhancement Rule

8. Consider Inseason Adjustments—Part 2, if needed

Schedule of Ancillary Meetings

Day 1—Thursday, April 7, 2011

Habitat Committee—1 p.m.

Day 2—Friday, April 8, 2011

Habitat Committee—8 a.m.

Scientific and Statistical Committee—8 a.m.

Day 3—Saturday, April 9, 2011

California State Delegation —7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Salmon Advisory Subpanel—8 a.m.

Salmon Technical Team—8 a.m.

Scientific and Statistical Committee—8 a.m.

Enforcement Consultants—4:30 p.m.

Day 4—Sunday, April 10, 2011

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Salmon Advisory Subpanel—8 a.m.

Salmon Technical Team—8 a.m.

Enforcement Consultants—As Needed

Tribal Policy Group—As Needed

Tribal and Washington Technical Group—As Needed

Day 5—Monday, April 11, 2011

California State Delegation—7 a.m.

Oregon State Delegation—7 a.m.

Washington State Delegation—7 a.m.

Groundfish Advisory Subpanel—8 a.m.

Groundfish Management Team—8 a.m.

Salmon Advisory Subpanel—8 a.m.

Salmon Technical Team—8 a.m.

Enforcement Consultants—As Needed

Tribal Policy Group—As Needed

Tribal and Washington Technical Group—As Needed

Day 6—Tuesday, April 12, 2011

California State Delegation—7 a.m.

Oregon State Delegation—7 a.m.

Washington State Delegation—7 a.m.

Groundfish Advisory Subpanel—8 a.m.

Groundfish Management Team—8 a.m.

Salmon Advisory Subpanel—8 a.m.

Salmon Technical Team—8 a.m.

Enforcement Consultants—As Needed

Tribal Policy Group—As Needed

Tribal and Washington Technical Group—As Needed

Day 7—Wednesday, April 13, 2011

California State Delegation—7 a.m.

Oregon State Delegation—7 a.m.

Washington State Delegation—7 a.m.

Salmon Advisory Subpanel—8 a.m.

Salmon Technical Team—8 a.m.

Enforcement Consultants—As Needed

Tribal Policy Group—As Needed

Tribal and Washington Technical Group—As Needed

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations: These meetings are physically accessible to people with disabilities. Requests for sign language interpretation or other auxiliary aids should be directed to Carolyn Porter at (503) 820-2280 at least 5 days prior to the meeting date.

Dated: March 16, 2011.
Tracey L. Thompson,
Acting Director, Office of Sustainable Fisheries, National Marine Fisheries Service.

[FR Doc. 2011-6512 Filed 3-18-11; 8:45 am]

BILLING CODE 3510-22-P